Presidential Determination No. 2023-05 of March 1, 2023

Presidential Determination Pursuant to Section 303 of the Defense Production Act of 1950, as Amended, on Airbreathing Engines, Advanced Avionics Position Navigation and Guidance Systems, and Constituent Materials for Hypersonic Systems

Memorandum for the Secretary of Defense

Ensuring a robust, resilient, and competitive domestic defense industrial base that has the capability, capacity, and workforce to meet the hypersonic warfighting mission is essential to our national security. Therefore, by the authority vested in me as President by the Constitution and the laws of the United States of America, including section 303 of the Defense Production Act of 1950, as amended (the “Act”) (50 U.S.C. 4533), I hereby determine, pursuant to section 303(a)(5) of the Act, that:

(1) airbreathing engines, advanced avionics position navigation and guidance systems, and constituent materials for hypersonic systems are essential to the national defense;

(2) without Presidential action under section 303 of the Act, United States industry cannot reasonably be expected to provide the additional investment required to provide airbreathing engines and constituent materials for hypersonic systems adequately and in a timely manner; and

(3) purchases, purchase commitments, or other action pursuant to section 303 of the Act are the most cost-effective, expedient, and practical alternative method for meeting the need for this critical industrial production capability.

Pursuant to section 303(a)(7)(B) of the Act, I find that action to expand the domestic production capability for these supply chains is necessary to avert an industrial resource or critical technology item shortfall that would severely impair national defense capability. Therefore, I waive the requirements of section 303(a)(1)-(a)(6) of the Act for the purpose of expanding the domestic production capability for airbreathing engines, advanced avionics position navigation and guidance systems, and constituent materials for hypersonic systems.

You are authorized and directed to publish this determination in the Federal Register.

THE WHITE HOUSE,

Washington, March 1, 2023

[FR Doc. 2023-04617

Filed 3-3-23; 8:45 am]

Billing code 5001-06-P